COMMODITY FUTURES TRADING COMMISSION

17 CFR Parts 1, 3, 4, 5, 15, 20, 35, 36, 37, 38, 39, 100, 140, 155, 166, 170, and 180

Exemption for Bilateral Transactions; a New Regulatory Framework for Clearing Organizations; Rules Relating to Intermediaries of Commodity Interest Transactions; and a New Regulatory Framework for Multilateral Transaction Execution Facilities, Intermediaries and Clearing Organizations

AGENCY: Commodity Futures Trading Commission.

ACTION: Extension of comment period on proposed rules.

SUMMARY: The Commodity Futures Trading Commission published notices of proposed rulemaking (NPRMs) concerning various aspects of a new regulatory framework on June 22, 2000 (63 FR 38985, 63 FR 39008, 63 FR 39027, and 63 FR 39033). The NPRMs provided that comments should be received on or before August 7, 2000. In response to requests from the Association for Investment Management Research and eight agricultural producer groups, the Commission has determined to extend the comment period until August 21, 2000.

DATES: Comments must be received on or before August 21, 2000.

ADDRESSES: As indicated in the NPRMs, comments should be submitted by the specified date to Jean A. Webb, Secretary, Commodity Futures Trading Commission, Three Lafayette Centre, 1155 21st Street, NW., Washington, DC 20581. In addition, Comments may be sent by facsimile transmission to facsimile number (202) 418-5521, or by electronic mail to secretary@cftc.gov. Reference should be made to the subjects specified in the original NPRMs.

FOR FURTHER INFORMATION CONTACT: Paul M. Architzel, Chief Counsel, Division of Economic Analysis, Commodity Futures Trading Commission, Three Lafayette Centre, 1125 21st Street, NW, Washington, DC 20581. Telephone: (202) 418-5260. E-mail: [PArchitzel@cftc.gov].

Issued in Washington, DC on August 7, 2000 by the Commodity Futures Trading Commission.
Edward W. Colbert,
Deputy Secretary of the Commission.

[FR Doc. 00-20353 Filed 8-10-00; 8:45 am]

BILLING CODE 6351-01-P